DEPARTMENT OF DEFENSE

Department of the Army

Privacy Act of 1974; System of Records

AGENCY: Department of the Army, DoD.

ACTION: Notice to amend systems of records.

SUMMARY: The Department of the Army is proposing to amend a system of records notice in its existing inventory of records systems subject to the Privacy Act of 1974, (5 U.S.C. 552a), as amended.

DATES: This proposed action will be effective without further notice on June 10, 2004, unless comments are received which result in a contrary determination.

ADDRESSES: Department of the Army, Freedom of Information/Privacy Act Office, 7701 Telegraph Road, Alexandria, VA 22315-3905.

FOR FURTHER INFORMATION CONTACT: Ms. Janice Thornton at (703) 428-6504.

SUPPLEMENTARY INFORMATION: The Department of the Army systems of records notices subject to the Privacy Act of 1974, (5 U.S.C. 552a), as amended, have been published in the Federal Register and are available from the address above.

The specific changes to the records systems being amended are set forth below followed by the notice, as amended, published in its entirety. The proposed amendments are not within the purview of subsection (r) of the Privacy Act of 1974, (5 U.S.C. 552a), as amended, which requires the submission of a new or altered system report.

Dated: May 5, 2004.
L.M. Bynum,
Alternate OSD Federal Register Liaison Officer, Department of Defense.

A0600-8-101 AHRC

System name:

Military and Civilian Out-Processing Files (January 6, 2004, 69 FR 790).

Changes:

* * * * *

Retention and disposal:

Replace second paragraph with ‘Information listed in the out-processing master file and out-processing outputs files are maintained until no longer needed for conducting official business, but no longer than 6 years, and are then destroyed.’

* * * * *

A0600-8-101 AHRC

System name:

Military and Civilian Out-Processing Files.

System location:

Administrative offices and Army Staff agencies, field operating commands, installations and/or activities Army wide. Official Mailing addresses are published as an appendix to the Army's compilation of record systems notices.

Categories of individuals covered by the system:

All Army active duty, National Guard, Army Reserve and Department of the Army civilian personnel’

Categories of records in the system:

Installation and Unit Clearance Records, Reassignment Records Checklist, copy of receipts or documents evidencing payment of telephone bills, return of material held on memorandum receipt and other supporting clearance matters and materials.

Authority for maintenance of the system:

10 U.S.C. 3013, Secretary of the Army; Army Regulation 600-8-101, Personnel (In- and Out- and Mobilization Processing); and E.O. 9397 (SSN).

Purpose(s):

To verify that an individual has obtained clearance from the Army staff agency or installation's facilities and has accomplished his/her personal and official obligations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

By Social Security Number and Surname of departing individual.

Safeguards:

Information is assessed only be designated persons having official need therefore.

Retention and disposal:

Information concerning clearance procedures for departing soldiers, included are clearance certificates, checklists, and related information are maintained for one year then destroyed.

Information listed in the out-processing master file and out-processing output files are maintained until no longer needed for conducting official business, but no longer than 6 years, and are then destroyed.

System manager(s) and address:

Commander, U.S. Army Human Resources Command, Out-Processing Functional Proponent, 200 Stovall Street, Alexandria, Virginia 22332-0474.

Notification procedure:

Individuals seeking to determine whether information about themselves is contained in this system should address written inquiries to the administrative office of the installation/activity to which the individual had been assigned.

Individual should provide the full name, Social Security Number, departure date, location of last employing office, and signature.

Record access procedures:

Individuals seeking access to information about themselves contained in this system should address written inquiries to the administrative office of the installation/activity to which the individual had been assigned.

Individual should provide the full name, Social Security Number, departure date, location of last employing office, and signature.

Contesting record procedures:

The Army's rules for accessing records, and for contesting contents and appealing initial agency determinations are contained in Army Regulation 340-21; 32 CFR part 505; or may be obtained from the system manager.

Record source categories:

From the individual and Army records and reports.

Exemptions claimed for the system:

None.

[FR Doc. 04-10598 Filed 5-10-04; 8:45 am]

BILLING CODE 5001-06-M